GENERAL SERVICES ADMINISTRATION

Establishment of a Transaction Fee for transportation services provided for the GSA, Office of Global Supply (FL).

AGENCY: Federal Acquisition Service, GSA.

ACTION: Proposed Rule with request for comments.

SUMMARY: GSA proposes a change to the Freight Management Program (FMP), Standard Tender of Service (STOS), to establish a transaction fee for transportation services provided to the Eastern Distribution Center (EDC), Burlington, NJ, Western Distribution Center (WDC), French Camp, CA, and the National Industries for the Blind (NIB) and National Industries for the Severely Handicapped (NISH). The proposed transaction fee of 4% of the total transportation charges will be deducted from transportation service provider (TSP) invoices prior to payment via the GSA Transportation Management Services Solution (TMSS).

DATES: Please submit your comments by January 9, 2006.

ADDRESSES: Mail comments to General Services Administration, Federal Acquisition Service, Travel and Transportation Management Division (FBL), 1901 South Bell Street, Crystal Mall Building 4, Room 812, Arlington, VA 22202, Attention: Ms. Mary Anne Sykes (Re: Federal Register comments)

FOR FURTHER INFORMATION CONTACT: Ms. Mary Anne Sykes, Transportation Programs Branch, by telephone at 703 605-2889 or by e-mail at transportation.programs@gsa.gov.

SUPPLEMENTARY INFORMATION:

A. Background

Through fiscal year 1994, the GSA transportation program was funded by appropriation. For fiscal year 1995 and beyond, Congress determined that certain GSA functions including the transportation management function would no longer be funded by direct appropriation. GSA is now industrially funded and as a result must charge fees to fund its transportation programs. Accordingly, GSA is establishing a transaction fee to help fund TMSS and the transportation management support services related directly to EDC, WDC, and NIB/NISH transportation. GSA's comprehensive web-based TMSS will be used to process the transportation transactions. The use of TMSS will increase the efficiency and effectiveness of transportation billing, prepayment audit, and payment. TSPs that provide transportation services for GSA, Global Supply (FL) will benefit from TMSS electronic billing, automated prepayment audit, faster payments, online transaction tracking, automated reports, and a complete audit history trail. There will be no action required on the part of the TSP, the 4% transaction fee will automatically be calculated by TMSS and deducted from the invoice by the GSA Finance Office when the payment is processed.

B. Substantive Changes

The proposed transaction fee of 4% of the total FL transportation charges will be deducted from TSP invoices with rates effective May 1, 2006.

Note: Rate filing and program participation parameters will be outlined in the FMP, Request for Offer provided to industry.

Dated: December 1, 2005.
Tauna T. Delmonico,
Director, Travel and Transportation Management Division (FBL), GSA.

[FR Doc. 05-23879 Filed 12-8-05; 8:45 am]

BILLING CODE 6820-89-S